NUCLEAR REGULATORY COMMISSION

[Docket No. 50-302]

Florida Power Corporation; Notice of Withdrawal of Application for Amendment to Facility Operating License

The U.S. Nuclear Regulatory Commission (NRC, the Commission) has granted the request of Florida Power Corporation (the licensee) to withdraw its October 25, 2007, application for proposed amendment to Facility Operating License No. DPR-72 for the Crystal River Unit 3 Nuclear Generating Plant (CR-3) located in Citrus County, Florida.

The proposed amendment would have revised the CR-3 Technical Specifications to impose more restrictive voltage and frequency limits during surveillance testing of the emergency diesel generators.

The Commission had previously issued a Notice of Consideration of Issuance of Amendment published in the Federal Register on January 29, 2008 (73 FR 5223). However, by letter dated August 26, 2008, the licensee withdrew the proposed change.

For further details with respect to this action, see the application for amendment dated October 25, 2007, and the licensee's letter dated August 26, 2008, which withdrew the application for license amendment. Documents may be examined and/or copied for a fee at the NRC's Public Document Room (PDR) located at One White Flint North, Public File Area 01 F21, 11555 Rockville Pike (first floor), Rockville, Maryland. Publicly available records will be accessible electronically from the Agencywide Documents Access and Management System (ADAMS) Public Electronic Reading Room on the internet at the NRC Web site, http://www.nrc.gov/reading-rm.html. Persons who do not have access to ADAMS or who encounter problems in accessing the documents located in ADAMS should contact the NRC PDR Reference staff by telephone at 1-800-397-4209 or 301-415-4737, or by e-mail to pdr@nrc.gov.

Dated at Rockville, Maryland, this 20th day of October 2008.
For the Nuclear Regulatory Commission.
Farideh E. Saba,
Senior Project Manager, Plant Licensing Branch 11-2, Division of Operating Reactor Licensing, Office of Nuclear Reactor Regulation.

[FR Doc. E8-25773 Filed 10-28-08; 8:45 am]

BILLING CODE 7590-01-P